FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

North American Cargo Inc., 214-77 Jamaica Avenue, Queens Village, NY 11428. Officers: Jacob T. Puthenparambil, President (Qualifying Individual), Kurian Thomas, Secretary.

Crane Logistics Inc., 150-14 132nd Avenue, 2/F, Jamaica, NY 11434. Officer: Mae K. Tam, President, (Qualifying Individual).

Wanda Shipping Company, Ltd., 148-36 Guy R. Brewer Blvd., Suite 203, Jamaica, NY 11434. Officer: Weigang Yan, President (Qualifying Individual).

RMI Global Logistics, Inc., 755 South Clark Street, Suite 202 & 203, Chicago, IL 60605-1704. Officers: Richard Hatton, Vice President, (Qualifying Individual), Peter Scholten, President.

Non-Vessel Operating Common Carrier and Ocean Freight Forwarder Transportation Intermediary Applicants

Transec International, Inc., 10306 NE 10th Street, Bellevue, WA 98004. Officers: Peter Neess, Secretary (Qualifying Individual), Robert T. Guinan, President.

Rojay World Freight, Inc., One Industrial Plaza, Bldg. B, Valley Stream, NY 11581. Officers: Anthony Zafferese, Secretary, Patricia Kelly, Vice President (Qualifying Individuals), Roy Magee, Managing Director.

Ocean Freight Forwarder—Ocean Transportation Intermediary Applicants

Technology Ventures Incorporated, 25200 Malvina, Warren, MI 48089. Officers: Bradford J. Pulleyblank, Logistics Specialist (Qualifying Individual), Constance E. Blair, President.

Earthlink Cargo And Customs Service, 3915 W. 102nd Street, #204, Inglewood, CA 90303. Pete Pang, Sole Proprietor.

Intercorp Forwarders, Ltd., 250 Eighth Avenue, Apt. #2, Sea Cliff, Long Island, NY 11579. Officers: Robert Stettner, President (Qualifying Individual).

Dated: April 16, 2004.
Bryant L. VanBrakle,
Secretary.

[FR Doc. 04-9083 Filed 4-21-04; 8:45 am]

BILLING CODE 6730-01-P